DEPARTMENT OF HOMELAND SECURITY

Federal Emergency Management Agency

[Docket ID FEMA-2021-0002; Internal Agency Docket No. FEMA-B-2141]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona: Santa Cruz. | Unincorporated areas of Santa Cruz County (20-09-2050P). | The Honorable Manny Ruiz, Chairman, Santa Cruz County Board of Supervisors, District 1, 2150 North Congress Drive, Suite 119, Nogales, AZ 85621. | Santa Cruz County Complex, 2150 North Congress Drive, Suite 116, Nogales, AZ 85621. | https://msc.fema.gov/portal/advanceSearch. | Aug. 25, 2021 | 040090
Colorado:
Eagle | Town of Gypsum (20-08-0718P). | The Honorable Steve Carver, Mayor, Town of Gypsum, P.O. Box 130, Gypsum, CO 81637. | Town Hall, 50 Lundgren Boulevard, Gypsum, CO 81637. | https://msc.fema.gov/portal/advanceSearch. | Aug. 6, 2021 | 080002
Eagle | Unincorporated areas of Eagle County (20-08-0718P). | Mr. Jeff Shroll, Eagle County Manager, P.O. Box 850, Eagle, CO 81631. | Eagle County Engineering Department, 500 Broadway Street, Eagle, CO 81631. | https://msc.fema.gov/portal/advanceSearch. | Aug. 6, 2021 | 080051
Florida:
Lee | City of Bonita Springs (21-04-0614P). | The Honorable Rick Steinmeyer, Mayor, City of Bonita Springs, 9101 Bonita Beach Road, Bonita Springs, FL 34135. | Community Development Department, 9220 Bonita Beach Road, Suite 111, Bonita Springs, FL 34135. | https://msc.fema.gov/portal/advanceSearch. | Sep. 13, 2021 | 120680
Palm Beach | Unincorporated areas of Palm Beach County (20-04-5100P). | The Honorable Verdenia C. Baker, Palm Beach County Administrator, 301 North Olive Avenue, Suite 1201, West Palm Beach, FL 33401. | Palm Beach County Building Division, 2300 North Jog Road, West Palm Beach, FL 33411. | https://msc.fema.gov/portal/advanceSearch. | Sep. 9, 2021 | 120192
Sarasota | Unincorporated areas of Sarasota County (21-04-0474P). | The Honorable Alan Maio, Chairman, Sarasota County Board of Commissioners, 1660 Ringling Boulevard, Sarasota, FL 34236. | Sarasota County Planning and Development Services Department, 1001 Sarasota Center Boulevard, Sarasota, FL 34240. | https://msc.fema.gov/portal/advanceSearch. | Sep. 1, 2021 | 125144
Sarasota | Unincorporated areas of Sarasota County (21-04-1626P). | The Honorable Alan Maio, Chairman, Sarasota County Board of Commissioners, 1660 Ringling Boulevard, Sarasota, FL 34236. | Sarasota County Planning and Development Services Department, 1001 Sarasota Center Boulevard, Sarasota, FL 34240. | https://msc.fema.gov/portal/advanceSearch. | Aug. 27, 2021 | 125144
Georgia: DeKalb | Unincorporated areas of DeKalb County (21-04-0617P). | The Honorable Michael L. Thurmond, Chief Executive Officer, DeKalb County, 1300 Commerce Drive, 6th Floor, Decatur, GA 30030. | DeKalb County Roads and Drainage Department, 727 Camp Road, Decatur, GA 30032. | https://msc.fema.gov/portal/advanceSearch. | Sep. 10, 2021 | 130065
North Carolina:
Wake | Town of Apex (20-04-1215P). | The Honorable Jacques Gilbert, Mayor, Town of Apex, P.O. Box 250, Apex, NC 27502. | Engineering Department, 73 Hunter Street, Apex, NC 27502. | https://msc.fema.gov/portal/advanceSearch. | Aug. 24, 2021 | 370467
Wake | Unincorporated areas of Wake County (20-04-1215P). | The Honorable Matt Calabria, Chairman, Wake County Board of Commissioners, P.O. Box 550, Raleigh, NC 27602. | Wake County Environmental Services Department, 336 Fayetteville Street, Raleigh, NC 27601. | https://msc.fema.gov/portal/advanceSearch. | Aug. 24, 2021 | 370368
South Carolina:
Charleston | Town of Sullivan's Island (21-04-2046P). | The Honorable Patrick M. O'Neil, Mayor, Town of Sullivan's Island, 2056 Middle Street, Sullivan's Island, SC 29482. | Building Department, 2056 Middle Street, Sullivan's Island, SC 29482. | https://msc.fema.gov/portal/advanceSearch. | Sep. 13, 2021 | 455418
Dorchester | Unincorporated areas of Dorchester County (21-04-0277P). | Mr. Jason L. Ward, Dorchester County Administrator, 201 Johnston Street, St. George, SC 29477. | Dorchester County Building Services Department, 500 North Main Street Summerville, SC 29483. | https://msc.fema.gov/portal/advanceSearch. | Aug. 27, 2021 | 450068
Richland | City of Columbia (20-04-4501P). | The Honorable Stephen K. Benjamin, Mayor, City of Columbia, 1737 Main Street, Columbia, SC 29201. | Water Department, 1136 Washington Street, Columbia, SC 29201. | https://msc.fema.gov/portal/advanceSearch. | Sep. 20, 2021 | 450172
Richland | Unincorporated areas of Richland County (20-04-4501P). | The Honorable Paul Livingston, Chairman, Richland County Council, 2308 Park Street, Columbia, SC 29201. | Richland County Floodplain Management Department, 2020 Hampton Street, Columbia, SC 29204. | https://msc.fema.gov/portal/advanceSearch. | Sep. 20, 2021 | 450170
Texas:
Bexar | City of Converse (20-06-1620P). | The Honorable Al Suarez, Mayor, City of Converse, 403 South Seguin Road, Converse, TX 78109. | City Hall, 403 South Seguin Road, Converse, TX 78109. | https://msc.fema.gov/portal/advanceSearch. | Aug. 23, 2021 | 480038
Bexar | City of San Antonio (20-06-3462P). | The Honorable Ron Nirenberg, Mayor, City of San Antonio, P.O. Box 839966, San Antonio, TX 78283. | Transportation and Capital Improvements Department, Stormwater Division, 114 West Commerce Street, San Antonio, TX 78205. | https://msc.fema.gov/portal/advanceSearch. | Aug. 23, 2021 | 480045
Bexar | Unincorporated areas of Bexar County (20-06-1399P). | The Honorable Nelson W. Wolff, Bexar County Judge, 101 West Nueva Street, 10th Floor, San Antonio, TX 78205. | Bexar County Public Works Department, 1948 Probandt Street, San Antonio, TX 78214. | https://msc.fema.gov/portal/advanceSearch. | Aug. 30, 2021 | 480035
Bexar | Unincorporated areas of Bexar County (20-06-3173P). | The Honorable Nelson W. Wolff, Bexar County Judge, 101 West Nueva Street, 10th Floor, San Antonio, TX 78205. | Bexar County Public Works Department, 1948 Probandt Street, San Antonio, TX 78214. | https://msc.fema.gov/portal/advanceSearch. | Aug. 9, 2021 | 480035
Collin | City of Celina (20-06-3148P). | The Honorable Sean Terry, Mayor, City of Celina, 142 North Ohio Street, Celina, TX 75009. | City Hall, 142 North Ohio Street, Celina, TX 75009. | https://msc.fema.gov/portal/advanceSearch. | Aug. 24, 2021 | 480133
Collin | Unincorporated areas of Collin County (20-06-3461P). | The Honorable Chris Hill, Collin County Judge, 2300 Bloomdale Road, Suite 4192, McKinney, TX 75071. | Collin County Engineering Department, 4690 Community Avenue, Suite 200, McKinney, TX 75071. | https://msc.fema.gov/portal/advanceSearch. | Aug. 16, 2021 | 480130
Coryell | City of Copperas Cove (20-06-3238P). | Mr. Ryan Haverlah, Manager, City of Copperas Cove, 914 South Main Street, Suite D, Copperas Cove, TX 76522. | Development Services Department, 914 South Main Street, Suite G, Copperas Cove, TX 76522. | https://msc.fema.gov/portal/advanceSearch. | Aug. 23, 2021 | 480155
Coryell | Unincorporated areas of Coryell County (20-06-3238P). | The Honorable Roger A. Miller, Coryell County Judge, 800 East Main Street, Suite A, Gatesville, TX 76528. | Coryell County Environmental/On-Site Sewage Facilities Office, 210 South 7th Street, Gatesville, TX 76528. | https://msc.fema.gov/portal/advanceSearch. | Aug. 23, 2021 | 480768
Denton | Unincorporated areas of Denton County (21-06-0565P). | The Honorable Andy Eads, Denton County Judge, 110 West Hickory Street, 2nd Floor, Denton, TX 76201. | Denton County Public Works, Engineering Department, 1505 East McKinney Street, Suite 175, Denton, TX 76209. | https://msc.fema.gov/portal/advanceSearch. | Sep. 13, 2021 | 480774
Tarrant | City of Fort Worth (21-06-0038P). | The Honorable Betsy Price, Mayor, City of Fort Worth, 200 Texas Street, Fort Worth, TX 76102. | Transportation and Public Works Department, Engineering Vault, 200 Texas Street, Fort Worth, TX 76102. | https://msc.fema.gov/portal/advanceSearch. | Aug. 30, 2021 | 480596
Williamson | Unincorporated areas of Williamson County (21-06-0017P). | The Honorable Bill Gravell, Jr., Williamson County Judge, 710 South Main Street, Suite 101, Georgetown, TX 78626. | Williamson County Engineering Department, 3151 Southeast Inner Loop, Georgetown, TX 78626. | https://msc.fema.gov/portal/advanceSearch. | Sep. 16, 2021 | 481079

[FR Doc. 2021-12132 Filed 6-9-21; 8:45 am]

BILLING CODE 9110-12-P